DEPARTMENT OF DEFENSE

Office of the Secretary

32 CFR Part 199

[Docket ID: DOD-2019-HA-0056]

RIN 0720-AB73

TRICARE; Reimbursement of Ambulatory Surgery Centers and Outpatient Services Provided in Cancer and Children's Hospitals

Correction

In rule document 2023-06452, appearing on pages 19844-19856 in the issue of Tuesday, April 4, 2023, make the following correction:

On page 19844 in the third column, in the DATES section, “180 October 1, 2023” should read “October 1, 2023”.

[FR Doc. C1-2023-06452 Filed 4-26-23; 8:45 am]

BILLING CODE 0099-10-P